DEPARTMENT OF LABOR

Employee Benefits Security Administration

[Application Number D-11638]

Withdrawal of the Notice of Proposed Exemption Involving Owens & Minor, Inc. (the Applicant), Located in Mechanicsville, VA

In the December 16, 2010 issue of the Federal Register, at 75 FR 78772, the Department of Labor published a notice of proposed exemption from the prohibited transaction restrictions of the Employee Retirement Income Security Act of 1974, as amended, and from certain taxes imposed by the Internal Revenue Code of 1986. The notice of proposed exemption, if granted, would have permitted the sale of certain shares in a hedge fund by the Owens & Minor, Inc. Pension Plan to the applicant.

By e-mail dated February 8, 2011, the applicant requested that the application for exemption be withdrawn.

Accordingly, the notice of proposed exemption is hereby withdrawn.

Signed at Washington, DC, this 9th day of March 2011.
Ivan L. Strasfeld,
Director, Office of Exemption Determinations, Employee Benefits Security Administration.

[FR Doc. 2011-5913 Filed 3-14-11; 8:45 am]

BILLING CODE 4510-29-P